U.S. INTERNATIONAL DEVELOPMENT FINANCE CORPORATION

Privacy Act of 1974; System of Records

AGENCY: U.S. International Development Finance Corporation (DFC).

ACTION: Notice of a modified system of records.

SUMMARY: The U.S. International Development Finance Corporation (DFC) proposes modifications to its systems of records for DFC/01, DFC/02 and DFC/03 under the Privacy Act of 1974. The modifications include: Updating the contact information for the current Chief Information Officer and adding a new routine use allowing disclosure to the Department of the Treasury when reviewing payment and award eligibility through the Do Not Pay Working System to identify, prevent, or recoup improper payments, in compliance with M-25-32 and E.O. 14249.

DATES: Submit comments on or before October 16, 2025. The new routine use will be effective October 16, 2025 unless modified in response to public comment.

ADDRESSES: You may submit comments by any of the following methods:

Mail: Willie Williams, Chief Information Officer, Office of the Chief Information Officer, U.S. International Development Finance Corporation, 1100 New York Avenue NW, Washington, DC 20527.

Email: fedreg@dfc.gov.

All submissions should include the system name and number (DFC/01, DFC/02 and DFC/03).

Please note that all written comments received in response to this notice will be considered public records.

FOR FURTHER INFORMATION CONTACT: Willie Williams, Chief Information Officer, (202) 336-8404.

SUPPLEMENTARY INFORMATION: DFC last published its comprehensive SORN update on 85 FR 43210 (July 16, 2020), which incorporated systems transferred under the BUILD Act of 2018. This proposed modification:

1. Updates the CIO contact information (previously Mark Rein) to Willie Williams.

2. Adds a new routine use for the Do Not Pay Working System consistent with M-25-32 Appendix I. The addition of this routine use ensures DFC's compliance with statutory requirements under the Payment Integrity Information Act of 2019 and E.O. 14249, enhancing the Agency's ability to prevent improper payments while protecting privacy.

SYSTEM NAME AND NUMBER:

DFC/01—Oracle E-Business Suite (EBS).

DFC/02—Salesforce Customer Relationship Management System (“Insight”).

DFC/03—Payroll, Time and Attendance, Retirement, and Leave Records.

SECURITY CLASSIFICATION:

Unclassified.

SYSTEM LOCATION:

U.S. International Development Finance Corporation, 1100 New York Avenue NW, Washington, DC 20527.

For DFC/01: Data is hosted within secure Oracle EBS environments operated in accordance with Federal security standards.

For DFC/02: The system is located in an Enterprise Government Cloud Service environment. The system is hosted at secured Salesforce General Services Administration (GSA) data centers (NA-21) in Washington, DC, and Chicago, IL; one site acts as the active host and the other serves as the disaster recovery location operating under near-real-time replication protocol.

For DFC/03: Records are maintained in secured facility storage and electronic systems with NIST-compliant controls.

SYSTEM MANAGER(S):

Chief Information Officer: Willie Williams, U.S. International Development Finance Corporation, 1100 New York Avenue NW, Washington, DC 20527; Phone: (202) 336-8404.

DFC/01—Oracle E-Business Suite (EBS).

Chief Information Officer: Willie Williams, U.S. International Development Finance Corporation, 1100 New York Avenue NW, Washington, DC 20527; Phone: (202) 336-8404.

Business System Owner: Managing Director, Financial Management Division.

Technical System Owner: Business Information Systems Director.

DFC/02—Salesforce Customer Relationship Management System (“Insight”).

Business System Owner: Managing Director for Finance Program Systems and Procedures, U.S. International Development Finance Corporation, 1100 New York Avenue NW, Washington, DC 20527; Phone: (202) 336-8400.

Technical System Owner: Business Information Systems Director, U.S. International Development Finance Corporation, 1100 New York Avenue NW, Washington, DC 20527; Phone: (202) 336-8400.

DFC/03—Payroll, Time and Attendance, Retirement, and Leave Records.

Business System Owner: Vice President and Chief Administrative Officer, U.S. International Development Finance Corporation, 1100 New York Avenue NW, Washington, DC 20527; Phone: (202) 336-8400.

AUTHORITY FOR MAINTENANCE OF THE SYSTEM:

DFC/01: Federal Acquisition Regulation (FAR) 52.232-25; Chief Financial Officers Act of 1990, Pub. L. 101-576; Federal Financial Management Improvement Act of 1996, Pub. L. 104-208; Office of Management and Budget (OMB) Circular A-123, Management's Responsibility for Internal Control; and the Better Utilization of Investments Leading to Development (BUILD) Act of 2018, 22 U.S.C. § 9601 et seq.

DFC/02: Better Utilization of Investments Leading to Development (BUILD) Act of 2018, 22 U.S.C. § 9601 et seq.; and 44 U.S.C. § 3101 et seq., Records Management by Agency Heads.

DFC/03: General authority for agency records management is provided by 5 U.S.C. 301, Departmental Regulations, and 44 U.S.C. 3101, Records Management by Agency Heads.

PURPOSE(S) OF THE SYSTEM:

DFC/01: To operate as the agency's official financial management system of record, used for administrative business accounting, obligation and expenditure tracking, disbursement and collection processing, working capital budget execution, and other financial management activities necessary to support DFC's programs and statutory mission.

DFC/02: To manage the full lifecycle of DFC project and client relationship information from intake through closeout, including tracking and administration of project data, client contact information, and the status (but not results) of Know Your Customer (KYC) due diligence. Data are also used for evaluating and improving DFC's products and programs, and to support related business processes such as payment commitments and reporting.

DFC/03: To maintain and administer records related to DFC employees' pay, work hours, leave, and retirement in order to carry out the agency's human resources and payroll functions in accordance with applicable Federal laws, regulations, and policies. This includes supporting payroll processing, tracking time and attendance, managing leave balances, and administering retirement benefits for current and former employees, contractors, and other covered personnel.

CATEGORIES OF INDIVIDUALS COVERED BY THE SYSTEM:

Includes current and former employees, contractors, PSCs, applicants, award recipients, vendors, and foreign and domestic individuals engaged in business with the Agency.

CATEGORIES OF RECORDS IN THE SYSTEM:

Refer to 85 FR 43210 for full details. Includes PII such as names, contact info, SSNs/TINs, financial account data, building access records, security clearance data, and emergency contact information.

RECORD SOURCE CATEGORIES:

Data is collected directly from individuals, from federal systems such as SAM.gov, and from internal operational systems including Salesforce “Insight” and Oracle EBS.

ROUTINE USES OF RECORDS MAINTAINED IN THE SYSTEM INCLUDING CATEGORIES OF USERS AND PURPOSES OF SUCH USES:

In addition to those disclosures generally permitted under 5 U.S.C. 552a(b), the following routine use is added to both DFC/01, DFC/02 and DFC/03:

New Routine Use (M-25-32):

To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

Existing routine uses published in 85 FR 43210 remain in effect for each system.

POLICIES AND PRACTICES FOR STORAGE OF RECORDS:

Paper and electronic formats; secured cabinets; encrypted databases.

POLICIES AND PRACTICES FOR RETRIEVAL OF RECORDS:

By name, ID, or other personal identifiers.

POLICIES AND PRACTICES FOR RETENTION AND DISPOSAL OF RECORDS:

Per NARA GRS schedules; electronic data destroyed via degaussing/erasure, paper via shredding.

ADMINISTRATIVE, TECHNICAL, AND PHYSICAL SAFEGUARDS:

Controlled access, NIST-based IT security standards, password authentication, encryption, logging, and staff training on records and privacy requirements.

RECORD ACCESS PROCEDURES:

Requests under the Privacy Act should be submitted to the System Manager per 22 CFR 707.21-707.23.

CONTESTING RECORD PROCEDURES:

Requests under the Privacy Act should be submitted to the System Manager per 22 CFR 707.21-707.23.

NOTIFICATION PROCEDURES:

Requests under the Privacy Act should be submitted to the System Manager per 22 CFR 707.21-707.23.

EXEMPTIONS PROMULGATED FOR THE SYSTEM:

None.

HISTORY:

85 FR 43210 (July 16, 2020).

Key Compliance Notes:

OMB Circular A-108 formatting and section requirements are met.

Compliance steps outlined in M-25-32 Section 3(d)(i)-(iii) have been followed: system identification, applicability determination, and inclusion of standardized routine use language.

This notice will be published in the Federal Register at least 30 days before the effective date, as required by 5 U.S.C. 552a(e)(11) and OMB Circular A-108 § 6(k).

Lisa Wischkaemper,
Administrative Counsel, Office of the General Counsel.

[FR Doc. 2025-17853 Filed 9-15-25; 8:45 am]

BILLING CODE 3210-01-P